DEPARTMENT OF THE TREASURY

Submission for OMB Review; Comment Request

July 26, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before September 5, 2006 to be assured of consideration.

Internal Revenue Service (IRS)

OMB Number: 1545-0890.

Type of Review: Revision.

Title: U.S. Corporation Short-Form Income Tax Return.

Form: 1120-A.

Description: Form 1120-A is used by small corporations, those with less than $500,000 of income and assets, to compute their taxable income and tax liability. The IRS uses Form 1120-A to determine whether corporations have correctly computed their tax liability.

Respondents: Business and other for-profit institutions.

Estimated Total Burden Hours: 19,626,221 hours.

OMB Number: 1545-1021.

Type of Review: Extension.

Title: Asset Acquisition Statement.

Form: 8594.

Description: Form 8594 is used by the buyer and seller of assets to which goodwill or going concern value can attach to report the allocation of the purchase price among the transferred assets.

Respondents: Businesses and other for-profit institutions.

Estimated Total Burden Hours: 219,462 hours.

OMB Number: 1545-1522.

Type of Review: Extension.

Title: Revenue Procedure 2003-1 and Revenue Procedure 2003-3 26 CFR 601-.201 Rulings and Determination Letters.

Form: REV.PROC.2000-1, REV.PROC.2000-3, and 2005-68.

Description: The information requested in Revenue Procedure 2003-1 under sections 5.05, 6.07, 8.01, 8.02, 8.03, 8.04, 8.05, 8.07, 9.01, 10.06, 10.07, 10.09, 11.01, 11.06, 11.07, 12.12, 13.02, 15.02, 15.03, 15.07, 15.08, 15.09, and 15.11 paragraph(B)(1) of Appendix A, and Appendix C, and question 35 of Appendix C, and in Revenue Procedure 2003-3 under sections 3.01(29), 3.02(1) and (3), 4.01(26), and 4.02(1) and (7)(b) is required to enable the Internal Revenue Service to give advice on filing letter ruling and determination letter requests and to process such requests.

Respondents: Businesses and other for-profit institutions.

Estimated Total Burden Hours: 513,150 hours.

OMB Number: 1545-2000.

Type of Review: Extension.

Title: Notice 2006-XX, Application for Allocation of National Megawatt Capacity Limitation.

Description: This notice provides the time and manner for a taxpayer to apply for an allocation of the national megawatt capacity limitation under Sec. 45J of the Internal Revenue Code. This information will be used to determine the portion of the national megawatt capacity limitation to which a taxpayer is entitled. The likely respondents are corporations and partnerships.

Respondents: Business and other for-profit institutions.

Estimated Total Burden Hours: 600 hours.

Clearance Officer: Glenn P. Kirkland, Internal Revenue Service, Room 6516, 1111 Constitution Avenue, NW., Washington, DC 20224, (202) 622-3428.

OMB Reviewer: Alexander T. Hunt, Office of Management and Budget, Room 10235, New Executive Office Building, Washington, DC 20503, (202) 395-7316.

Robert Dahl,
Treasury PRA Clearance Officer.

[FR Doc. E6-12548 Filed 8-2-06; 8:45 am]

BILLING CODE 4830-01-P